DEPARTMENT OF ENERGY

Federal Energy Regulatory Commission

Combined Notice of Filings # 1

November 8, 2007.

Take notice that the Commission received the following electric corporate filings:

Docket Numbers: EC08-10-000.

Applicants: FPLE Rhode Island State Energy, L.P.; Rhode Island State Energy Statutory.

Description: Joint application for authorization to acquire interests in an Electric Utility Company and request for expedited action of FPLE Rhode Island State Energy, LP and Rhode Island State Energy Statutory Trust 2000.

Filed Date: 11/01/2007.

Accession Number: 20071105-0090.

Comment Date: 5 p.m. Eastern Time on Friday, November 23, 2007.

Docket Numbers: EC08-11-000.

Applicants: Noble Clinton Windpark I, LLC; Noble Ellenburg Windpark, LLC; Noble Bliss Windpark, LLC; EFS Noble Holdings, LLC.

Description: Noble Clinton Windpark I, LLC et al. submits an application for authorization for the transfer of certain membership interests under Section 203 of the Federal Power Act.

Filed Date: 11/02/2007.

Accession Number: 20071107-0155.

Comment Date: 5 p.m. Eastern Time on Friday, November 23, 2007.

Take notice that the Commission received the following exempt wholesale generator filings:

Docket Numbers: EG08-11-000.

Applicants: Pedricktown Cogeneration Company, LP.

Description: Notice of Self-Certification of Exempt Wholesale Generator Status for Pedricktown.

Filed Date: 11/05/2007.

Accession Number: 20071105-5011.

Comment Date: 5 p.m. Eastern Time on Monday, November 26, 2007.

Docket Numbers: EG08-12-000.

Applicants: McAdoo Energy Wind LLC.

Description: McAdoo Energy Wind, LLC submits Notice of Self-Certification of Exempt Wholesale Generator Status.

Filed Date: 11/05/2007.

Accession Number: 20071107-0157.

Comment Date: 5 p.m. Eastern Time on Monday, November 26, 2007.

Docket Numbers: EG08-13-000.

Applicants: Central Power & Lime Inc.

Description: Notice of Self-Certification of Central Power & Lime, Inc. of Exempt Wholesale Generator Status.

Filed Date: 11/07/2007.

Accession Number: 20071107-5010.

Comment Date: 5 p.m. Eastern Time on Wednesday, November 28, 2007.

Take notice that the Commission received the following electric rate filings:

Docket Numbers: ER97-420-017.

Applicants: ProLiance Energy, LLC.

Description: ProLiance Energy, LLC submits a change in status notification and Original Sheet 1 to FERC Electric Tarrif, Substitute Revised Volume 1.

Filed Date: 11/05/2007.

Accession Number: 20071107-0117.

Comment Date: 5 p.m. Eastern Time on Monday, November 26, 2007.

Docket Numbers: ER03-428-005.

Applicants: ConocoPhillips Company.

Description: ConocoPhillips Co. submits the proposed revisions to its FERC Electric Tariff 1.

Filed Date: 10/30/2007.

Accession Number: 20071105-0149.

Comment Date: 5 p.m. Eastern Time on Tuesday, November 20, 2007.

Docket Numbers: ER06-1382-004.

Applicants: Bluegrass Generation Company, LLC.

Description: Bluegrass Generation Company, LLC's Compliance Filing for Rate Schedule FERC No. 2.

Filed Date: 11/05/2007.

Accession Number: 20071105-5056.

Comment Date: 5 p.m. Eastern Time on Monday, November 26, 2007.

Docket Numbers: ER06-615-015.

Applicants: California Independent System Operator Corporation.

Description: California Independent System Operator Corp.'s modifications to market redesign and technology upgrade tariff.

Filed Date: 10/26/2007.

Accession Number: 20071105-0099.

Comment Date: 5 p.m. Eastern Time on Friday, November 16, 2007.

Docket Numbers: ER07-1202-001.

Applicants: JD WIND 4, LLC.

Description: Electric Refund Report (Compliance Only) of JD WIND 4, LLC.

Filed Date: 11/06/2007.

Accession Number: 20071106-5041.

Comment Date: 5 p.m. Eastern Time on Tuesday, November 27, 2007.

Docket Numbers: ER07-1208-001.

Applicants: Wind Capital Holdings, LLC.

Description: Electric Refund Report (Compliance Only) of Wind Capital Holdings, LLC.

Filed Date: 11/06/2007.

Accession Number: 20071106-5044.

Comment Date: 5 p.m. Eastern Time on Tuesday, November 27, 2007.

Docket Numbers: ER07-1332-002.

Applicants: Smoky Hills Wind Farm, LLC.

Description: Smoky Hills Wind Farm, LLC submits a Second Amendment to its Application.

Filed Date: 11/05/2007.

Accession Number: 20071106-0020.

Comment Date: 5 p.m. Eastern Time on Monday, November 26, 2007.

Docket Numbers: ER07-1406-001.

Applicants: Long Beach Peakers LLC.

Description: Long Beach Peakers, LLC submits an amendment to their application for market based rate authority and request for shortened notice and comment period.

Filed Date: 11/02/2007.

Accession Number: 20071106-0029.

Comment Date: 5 p.m. Eastern Time on Friday, November 23, 2007.

Docket Numbers: ER08-19-002.

Applicants: Energy Algorithms, LLC.

Description: Energy Algorithms LLC submits an amendment to the 10/23/07 filing of an application.

Filed Date: 11/05/2007.

Accession Number: 20071107-0115.

Comment Date: 5 p.m. Eastern Time on Friday, November 16, 2007.

Docket Numbers: ER08-49-001.

Applicants: Michigan Electric Transmission Co., LLC.

Description: Michigan Electric Transmission Co, LLC submits an errata to the 10/12/07 filing to revise certain provision of the Distribution—Transmission Interconnection Agreement with Consumers Energy Co.

Filed Date: 10/29/2007.

Accession Number: 20071105-0150.

Comment Date: 5 p.m. Eastern Time on Monday, November 19, 2007.

Docket Numbers: ER08-96-000.

Applicants: PJM Interconnection, L.L.C.

Description: PJM Interconnection, LLC submits an executed interconnection service agreement with DPL Energy, LLC et al.

Filed Date: 11/05/2007.

Accession Number: 20071106-0028.

Comment Date: 5 p.m. Eastern Time on Monday, November 26, 2007.

Docket Numbers: ER08-118-000.

Applicants: Florida Power & Light Company.

Description: Florida Power & Light Company submits a new Rate Schedule 307 between Oleander Power Project LP and Florida Municipal Power Agency.

Filed Date: 10/31/2007.

Accession Number: 20071101-0102.

Comment Date: 5 p.m. Eastern Time on Wednesday, November 21, 2007.

Docket Numbers: ER08-135-000; ER08-136-000.

Applicants: California Independent System Operator Corporation; Pacific Gas and Electric Company.

Description: California Independent System Operator Corporation and Pacific Gas and Electric Co submit revisions to the ISO Grid Management Charge rate formula.

Filed Date: 10/31/2007.

Accession Number: 20071102-0094.

Comment Date: 5 p.m. Eastern Time on Wednesday, November 21, 2007.

Docket Numbers: ER08-137-000.

Applicants: York Haven Power Company.

Description: York Haven Power Co submits a notice of cancellation and request and waiver of a 60-day notice period.

Filed Date: 10/31/2007.

Accession Number: 20071102-0095.

Comment Date: 5 p.m. Eastern Time on Wednesday, November 21, 2007.

Docket Numbers: ER08-139-000.

Applicants: Southern Company Services, Inc.

Description: Southern Company Services, Inc on behalf of Georgia Power Co submits the annual informational filing for the Transmission Service Agreement with Florida Power Light & Power.

Filed Date: 10/31/2007.

Accession Number: 20071102-0122.

Comment Date: 5 p.m. Eastern Time on Wednesday, November 21, 2007.

Docket Numbers: ER08-141-000.

Applicants: PJM Interconnection, L.L.C.

Description: PJM Interconnection LLC submits an executed Interconnection Service Agreement among PJM and York Haven Power Company et al.

Filed Date: 11/01/2007.

Accession Number: 20071105-0131.

Comment Date: 5 p.m. Eastern Time on Friday, November 23, 2007.

Docket Numbers: ER08-142-000.

Applicants: Southern Company Services, Inc.

Description: Southern Company Services Inc submits an informational filing to update the charges under their Open Access Transmission Tariff.

Filed Date: 11/01/2007.

Accession Number: 20071105-0132.

Comment Date: 5 p.m. Eastern Time on Friday, November 23, 2007.

Docket Numbers: ER08-143-000.

Applicants: PacifiCorp.

Description: PacifiCorp submits two unexecuted agreements, a Restated California-Oregon Intertie Path Operating Agreement and an Operating Agreement with California Independent System Operator Corporation et al.

Filed Date: 11/01/2007.

Accession Number: 20071105-0133.

Comment Date: 5 p.m. Eastern Time on Thursday, November 29, 2007.

Docket Numbers: ER08-144-000.

Applicants: Atlantic Path 15, LLC.

Description: Atlantic Path 15, LLC submits revisions to its Transmission Owner Tariff to reflect the annual update of the Transmission Revenue Balancing Account Adjustment.

Filed Date: 11/01/2007.

Accession Number: 20071105-0147.

Comment Date: 5 p.m. Eastern Time on Friday, November 23, 2007.

Docket Numbers: ER08-145-000.

Applicants: Wisconsin Electric Power Company.

Description: Wisconsin Electric Power Co submits a Form of Agreement to Purchase Load Following Service with Edison Sault Electric Co.

Filed Date: 11/01/2007.

Accession Number: 20071105-0121.

Comment Date: 5 p.m. Eastern Time on Friday, November 23, 2007.

Docket Numbers: ER08-146-000.

Applicants: Wisconsin Electric Power Company.

Description: Wisconsin Electric Power Company submits its Formula Rate Wholesale Sales Tariff, an initial cost-based rate, to become effective 1/1/08.

Filed Date: 11/01/2007.

Accession Number: 20071105-0130.

Comment Date: 5 p.m. Eastern Time on Friday, November 23, 2007.

Docket Numbers: ER08-147-000.

Applicants: Virginia Electric and Power Company.

Description: Virginia Electric and Power Company submits a notice of cancellation and a revised service agreement cover sheet to terminate the Mutual Operating Agreement with the Town of Enfield, NC, to become effective 1/1/08.

Filed Date: 11/01/2007.

Accession Number: 20071105-0125.

Comment Date: 5 p.m. Eastern Time on Friday, November 23, 2007.

Docket Numbers: ER08-148-000.

Applicants: Central Power & Lime Inc.

Description: Central Power & Lime, Inc submits an application for expedited Order accepting initial rate schedule, waiving regulations and granting blanket approvals.

Filed Date: 11/01/2007.

Accession Number: 20071105-0126.

Comment Date: 5 p.m. Eastern Time on Friday, November 23, 2007.

Docket Numbers: ER08-149-000.

Applicants: Northeast Utilities Service Company.

Description: Northeast Utilities Services Company submits Attachment A—Letter requesting defferal of RTO Start-Up Cost and requests that FERC approve its proposed accounting treatment for associated cost recovery.

Filed Date: 11/01/2007.

Accession Number: 20071105-0127.

Comment Date: 5 p.m. Eastern Time on Friday, November 23, 2007.

Docket Numbers: ER08-150-000.

Applicants: MidAmerican Energy Company.

Description: MidAmerican Energy Company submits an amended Network Integration Transmission Service Agreement and an amended Network Operating Agreement with the City of Breda, Iowa.

Filed Date: 11/01/2007.

Accession Number: 20071105-0128.

Comment Date: 5 p.m. Eastern Time on Friday, November 23, 2007.

Docket Numbers: ER08-151-000.

Applicants: MidAmerican Energy Company.

Description: MidAmerican Energy Company submits an amended Network Integration Transmission Service Agreement and an amended Network Operating Agreement with the City of Wall Lake, IA.

Filed Date: 11/01/2007.

Accession Number: 20071105-0129.

Comment Date: 5 p.m. Eastern Time on Friday, November 23, 2007.

Docket Numbers: ER08-153-000.

Applicants: Upper Peninsula Power Company.

Description: Upper Peninsula Power Company submits an executed Confirmation Agreement for the sale of 3 MW of capacity and energy to UP Power Marketing LLC, to become effective 1/1/08.

Filed Date: 11/01/2007.

Accession Number: 20071105-0124.

Comment Date: 5 p.m. Eastern Time on Friday, November 23, 2007.

Docket Numbers: ER08-155-000.

Applicants: Southern California Edison Company.

Description: Southern California Edison Company submits Revised Sheets to the Amended and Restated Eldorado System Conveyance and Co-Tenancy Agreement among Neveda Power Company et al.

Filed Date: 11/01/2007.

Accession Number: 20071105-0122.

Comment Date: 5 p.m. Eastern Time on Friday, November 23, 2007.

Docket Numbers: ER08-156-000.

Applicants: Peoples Energy Services Corporation.

Description: Peoples Energy Services Corp submits a notice of cancellation and revised tariff cover sheet to terminate their First Revised Rate Schedule 1 and on 11/5/07 submit an errata to this filing.

Filed Date: 11/01/2007; 11/05/2007.

Accession Number: 20071105-0139; 20071106-0300.

Comment Date: 5 p.m. Eastern Time on Friday, November 23, 2007.

Docket Numbers: ER08-157-000.

Applicants: Union Electric Company.

Description: Union Electric Company dba AmerenUE submits amendments to its market based rate tariff Second Revised Sheet 1 et al to FERC Gas Tariff, Original Volume 1.

Filed Date: 11/01/2007.

Accession Number: 20071105-0138.

Comment Date: 5 p.m. Eastern Time on Friday, November 23, 2007.

Docket Numbers: ER08-158-000.

Applicants: New England Power Pool.

Description: New England Power Pool Participants Committee submits counterpart signature pages of the New England Power Pool Agreement dated 9/1/71 under ER08-158.

Filed Date: 11/01/2007.

Accession Number: 20071105-0137.

Comment Date: 5 p.m. Eastern Time on Friday, November 23, 2007.

Docket Numbers: ER08-160-000.

Applicants: Entergy Services, Inc.

Description: Entergy Gulf States Louisiana, LLC submits the EAI-EGS-LA, EGS-ETI and EAI-EMI 2008 Bridge Contracts.

Filed Date: 11/01/2007.

Accession Number: 20071105-0136.

Comment Date: 5 p.m. Eastern Time on Friday, November 23, 2007.

Docket Numbers: ER08-161-000.

Applicants: Entergy Services, Inc.

Description: Entergy Operating Companies submits their Second Revised Rate Schedule 432, a form of service agreement for the provisions of non-power goods and services.

Filed Date: 11/01/2007.

Accession Number: 20071105-0135.

Comment Date: 5 p.m. Eastern Time on Friday, November 23, 2007.

Docket Numbers: ER08-162-000.

Applicants: Entergy Services, Inc.

Description: Entergy Operating Companies submits an executed transmission service agreements for point-to-point transmission service under FERC Electric Tariff, Third Revised Volume 3.

Filed Date: 11/01/2007.

Accession Number: 20071105-0134.

Comment Date: 5 p.m. Eastern Time on Friday, November 23, 2007.

Docket Numbers: ER08-164-000.

Applicants: Wisconsin Electric Power Company.

Description: Wisconsin Electric Power Co submits Rate Schedule 118 and 119.

Filed Date: 11/02/2007.

Accession Number: 20071105-0141.

Comment Date: 5 p.m. Eastern Time on Friday, November 23, 2007.

Docket Numbers: ER08-165-000.

Applicants: Cabrillo Power I LLC.

Description: Cabrillo Power I, LLC submits a Notice of Termination of its First Revised Rate Schedule 2, the Reliability Must Run Agreement with California Independent System Operator Corp.

Filed Date: 11/01/2007.

Accession Number: 20071106-0091.

Comment Date: 5 p.m. Eastern Time on Friday, November 23, 2007.

Docket Numbers: ER08-169-000.

Applicants: Midwest Independent Transmission System.

Description: Midwest Independent Transmission System Operator, Inc and ALLETE, Inc submits proposed revisions to Attachment P of their Open Access Transmission Tariff, FERC Electric Tariff, Third Revised Volume 1.

Filed Date: 11/02/2007.

Accession Number: 20071106-0030.

Comment Date: 5 p.m. Eastern Time on Friday, November 23, 2007.

Docket Numbers: ER08-170-000.

Applicants: NM Colton Genco LLC.

Description: NM Colton Genco, LLC submits Notice of Cancellation of its Rate Schedule 1.

Filed Date: 11/02/2007.

Accession Number: 20071106-0031.

Comment Date: 5 p.m. Eastern Time on Friday, November 23, 2007.

Docket Numbers: ER08-171-000.

Applicants: NM Mid Valley Genco LLC.

Description: NM Mid Valley Genco, LLC submits Notice of Cancellation of its Rate Schedule FERC 1.

Filed Date: 11/02/2007.

Accession Number: 20071106-0032.

Comment Date: 5 p.m. Eastern Time on Friday, November 23, 2007.

Docket Numbers: ER08-172-000.

Applicants: NM Milliken Genco LLC.

Description: NM Milliken Genco, LLC submits Notice of Cancellation of its Rate Schedule 1.

Filed Date: 11/02/2007.

Accession Number: 20071106-0033.

Comment Date: 5 p.m. Eastern Time on Friday, November 23, 2007.

Docket Numbers: ER08-173-000.

Applicants: Florida Power Corporation.

Description: Florida Power Co dba Progress Energy Florida, Inc submits the Cost-Based Power Sales Agreement with the City of Williston, Florida, effective 1/1/08.

Filed Date: 11/02/2007.

Accession Number: 20071106-0013.

Comment Date: 5 p.m. Eastern Time on Friday, November 23, 2007.

Docket Numbers: ER08-174-000.

Applicants: Westar Energy, Inc.

Description: Kansas Gas and Electric Co and Westar Energy, Inc submits a Notice of Cancellation of an Electric Power Supply Agreement with the City of LaHarpe, Kansas.

Filed Date: 11/02/2007.

Accession Number: 20071106-0034.

Comment Date: 5 p.m. Eastern Time on Friday, November 23, 2007.

Docket Numbers: ER08-175-000.

Applicants: Florida Power Corporation.

Description: Florida Power Co dba Progress Energy Florida, Inc submits the Cost-Based Power Sales Agreement with the City of Quincy, Florida, effective 1/1/08.

Filed Date: 11/02/2007.

Accession Number: 20071106-0014.

Comment Date: 5 p.m. Eastern Time on Friday, November 23, 2007.

Docket Numbers: ER08-176-000.

Applicants: Florida Power Corporation.

Description: Florida Power Co dba Progress Energy Florida, Inc submits the Cost-Based Power Sales Agreement with the City of Bartow, Florida, effective 1/1/08.

Filed Date: 11/02/2007.

Accession Number: 20071106-0015.

Comment Date: 5 p.m. Eastern Time on Friday, November 23, 2007.

Docket Numbers: ER08-177-000.

Applicants: Cabrillo Power II LLC.

Description: Cabrillo Power II LLC submits its revised Reliability Must Run Agreement with California Independent System Operator for the calendar year 2008.

Filed Date: 11/01/2007.

Accession Number: 20071106-0026.

Comment Date: 5 p.m. Eastern Time on Friday, November 23, 2007.

Docket Numbers: ER08-178-000.

Applicants: Cabrillo Power I LLC.

Description: Cabrillo Power I, LLC submit Original Rate Schedule FERC 3 and FERC 4 consisting of two executed Interim Service Agreements with the California Independent System Operator Corporation.

Filed Date: 11/01/2007.

Accession Number: 20071106-0024.

Comment Date: 5 p.m. Eastern Time on Friday, November 23, 2007.

Docket Numbers: ER08-179-000.

Applicants: Westar Energy, Inc.

Description: Westar Energy, Inc et al submits a notice of cancellation of an Electric Power Supply Agreement with the City of Arcadia, Kansas.

Filed Date: 11/02/2007.

Accession Number: 20071106-0016.

Comment Date: 5 p.m. Eastern Time on Friday, November 23, 2007.

Docket Numbers: ER08-180-000.

Applicants: Westar Energy, Inc.

Description: Westar Energy, Inc et al submit a notice of cancellation of an Electric Power Supply Agreement with the City of Mindenmines, Missouri Kansas.

Filed Date: 11/02/2007.

Accession Number: 20071106-0017.

Comment Date: 5 p.m. Eastern Time on Friday, November 23, 2007.

Docket Numbers: ER08-181-000.

Applicants: Westar Energy, Inc.

Description: Westar Energy, Inc et al submits a notice of cancellation of an Electric Power Supply Agreement with the City of Mulberry, Kansas.

Filed Date: 11/02/2007.

Accession Number: 20071106-0021.

Comment Date: 5 p.m. Eastern Time on Friday, November 23, 2007.

Docket Numbers: ER08-182-000.

Applicants: NSTAR Electric Company.

Description: NSTAR Electric Co submits a Reconfiguration Agreement for wholesale distribution wheeling service to Mirant Kendall, LLC.

Filed Date: 11/02/2007.

Accession Number: 20071106-0022.

Comment Date: 5 p.m. Eastern Time on Friday, November 23, 2007.

Docket Numbers: ER08-183-000.

Applicants: Southern Company Services, Inc.

Description: Southern Company Services, Inc submits the 2008 Informational Filing for Georgia Power Co's Transmission Service Agreement with Florida Power & Light Co et al.

Filed Date: 11/01/2007.

Accession Number: 20071106-0023.

Comment Date: 5 p.m. Eastern Time on Friday, November 23, 2007.

Docket Numbers: ER08-184-000.

Applicants: Indiana Michigan Power Company.

Description: Indiana Michigan Power Co submits First Revised Sheet 14 et al to Rate Schedule 112, effective 1/1/07 et al.

Filed Date: 11/02/2007.

Accession Number: 20071106-0019.

Comment Date: 5 p.m. Eastern Time on Friday, November 23, 2007.

Docket Numbers: ER08-185-000.

Applicants: Ameren Energy Marketing Company.

Description: Application of Ameren Energy Marketing Co et al to amend its Ancillary Services Rate Schedules.

Filed Date: 11/02/2007.

Accession Number: 20071105-0201.

Comment Date: 5 p.m. Eastern Time on Friday, November 23, 2007.

Docket Numbers: ER08-186-000.

Applicants: Union Electric Company.

Description: Application of Union Electric Co dba AmerenUE submits amendment to its Ancillary Services Rate Schedules.

Filed Date: 11/02/2007.

Accession Number: 20071105-0202.

Comment Date: 5 p.m. Eastern Time on Friday, November 23, 2007.

Docket Numbers: ER08-187-000.

Applicants: The United Illuminating Company.

Description: The United Illuminating Company submits proposed modifications to Schedule 20A-UI of the ISO New England Inc Transmission, Markets and Services Tariff etc.

Filed Date: 11/02/2007.

Accession Number: 20071105-0226.

Comment Date: 5 p.m. Eastern Time on Friday, November 23, 2007.

Docket Numbers: ER08-188-000.

Applicants: PacifiCorp.

Description: PacifiCorp submits an Engineering and Procurement Agreement between PacifiCorp Transmission Services and PacifiCorp Energy.

Filed Date: 11/05/2007.

Accession Number: 20071106-0018.

Comment Date: 5 p.m. Eastern Time on Monday, November 26, 2007

Docket Numbers: ER08-189-000.

Applicants: ISO New England Inc.

Description: ISO New England, Inc pursuant to their Transmission, Markets and Services Tariff, FERC Electric Tariff 3 submits its capital budget for year 2008 and supporting materials.

Filed Date: 10/31/2007.

Accession Number: 20071106-0035.

Comment Date: 5 p.m. Eastern Time on Wednesday, November 21, 2007.

Take notice that the Commission received the following public utility holding company filings:

Docket Numbers: PH08-3-000.

Applicants: CMS Energy Corporation.

Description: Waiver Notification of Consumers Energy Company.

Filed Date: 11/01/2007.

Accession Number: 20071101-5094.

Comment Date: 5 p.m. Eastern Time on Friday, November 23, 2007.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Acting Deputy Secretary.

[FR Doc. E7-22392 Filed 11-15-07; 8:45 am]

BILLING CODE 6717-01-P